DEPARTMENT OF DEFENSE

Department of the Navy

[Docket ID USN-2013-0019]

Proposed Collection; Comment Request

AGENCY: Department of the Navy, DoD.

ACTION: Notice.

SUMMARY: In compliance with Section 3506(c)(2)(A) of the Paperwork Reduction Act of 1995, the Department of the Navy, Office of Naval Research (ONR), announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 25, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of Naval Research (ONR), ATTN: Will Brown, Talent Manager, 875 North Randolph Street, Arlington, VA 22203; or will.brown@navy.mil.

SUPPLEMENTARY INFORMATION: Title; Associated Form; and OMB Number: Office of Naval Research (ONR) As One Survey; OMB Control Number, 0703-TBD.

Needs and Uses: The Chief of Naval Research requires a method to better understand how the total ONR workforce is aligned and executes the Command's mission and strategic initiatives. A survey will allow ONR to collect data around the workforce's affinity within organizational groups, commitment to strategic initiatives, and understanding of how they work together to achieve ONR's mission.

Non-government personnel (Contractors and Intergovernmental Personnel Act (IPAs) staff) comprise approximately half of ONR's total workforce population. As such, surveying these non-government personnel is required to capture a holistic view of the total ONR workforce and provide leaders with information to make informed workforce decisions. These “contingent” workforce members perform a wide-range of functions and are uniquely qualified individuals brought in to support science and technology management. These individuals move across the organization adapting quickly to new issues and projects. They must understand customers and the interworking of ONR. They represent the core of the cross-functional matrix team concept and act as facilitators and nodes among specialist and government professionals. The combination of these contingent workers and government personnel comprise the ONR workforce of the future. Truly understanding the concerns and motivation of this segment of the workforce will facilitate increased creativity and discretionary effort across the enterprise.

The information collected in the survey will be used by ONR executives to measure performance of the organization, proactively inform workforce engagement strategies for greater resonance and impact, and prepare for and implement organizational changes in the near- and long-term.

Affected Public: Individuals and Households: Non-government employees at ONR.

Annual Burden Hours: 139.

Number of Respondents: 555.

Responses per Respondent: 1.

Average Burden per Response: 15 minutes.

Frequency: One Time.

ONR continues to experience significant organizational and operational changes. In order to successfully and efficiently implement these changes, the Chief of Naval Research must understand information related to the following: (1) The degree of organizational coherence behind executing strategic goals and priorities; (2) data to measure performance of the organization and proactively inform workforce engagement strategies to optimize resonance and impact; and (3) how to prepare for and implement organizational changes in the near- and long-term. Currently, no databases or surveys exist to provide information on these areas as it relates to the total ONR workforce. The ONR As One survey is designed to provide the three information needs described above by surveying the ONR workforce. As an online survey, it is the most cost- and time-effective means for collecting the required information. Because nongovernment employees comprise approximately half of ONR's total workforce, it is imperative that these workforce member types are included in the survey population. The feedback from these workforce member types is critical to the goal of capturing an accurate representation of the ONR total workforce on the measures that are of interest to the organization's leadership: The information collected in the survey will be used to measure performance of the organization, proactively inform workforce engagement strategies for greater resonance and impact, and prepare for and implement organizational changes in the near- and long-term. All information will be collected by an online survey and all data will be reported in the aggregate.

Dated: June 23, 2014.
Aaron Siegel,
Alternate OSD Federal Register Liaison Officer, Department of Defense.

[FR Doc. 2014-14950 Filed 6-25-14; 8:45 am]

BILLING CODE 5001-06-P